DEPARTMENT OF COMMERCE

National Oceanic and Atmospheric Administration

[I.D. 121905D]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held January 9 - 12, 2006.

ADDRESSES: These meetings will be held at the Omni Corpus Christi Hotel - Bayfront Tower, 900 North Shoreline Boulevard, Corpus Christi, TX 78401.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Council

Wednesday, January 11, 2006

8:30 a.m. - Convene.

8:45 a.m. - 11:30 a.m. - Receive public testimony on (a) Reef Fish Amendment 26 (Red Snapper Individual Fishing Quota (IFQ); (b) The Texas Shrimp Closure; and (c) Exempted fishing permits (if any).

1 p.m. - 3 p.m. - Receive the Reef Fish Management Committee Report.

3 p.m. - 4:30 p.m. - Receive the joint Reef Fish/Shrimp Management Committees Report.

4:30 p.m. - 5:30 p.m. - Receive Litigation Briefing (CLOSED SESSION).

Thursday, January 12, 2006

8:30 a.m. - 9 a.m. - Receive the Budget/Personnel Committee Report.

9 a.m. - 9:30 a.m. - Receive the Administrative Policy Committee Report.

9:30 a.m. - 9:45 a.m. - Receive the Habitat Protection Committee Report.

9:45 a.m. - 10 a.m. - Receive the Shrimp Management Committee Report.

10 a.m. - 10:15 a.m. - Receive the South Atlantic Fishery Management Council (SAFMC) Meeting Report.

10:15 a.m. - 10:30 a.m. - Receive the Enforcement Reports.

10:30 a.m. - 10:45 a.m. - Adoption of the Law Enforcement Advisory Panel (LEAP) Operation Plan.

10:45 a.m. - 11 a.m. - Receive the NMFS Regional Administrator's Report.

11 a.m. - 11:30 a.m. - Receive the State Director's Reports.

11:30 a.m. - 11:45 a.m. - Other Business.

Committee

Monday, January 9, 2006

8:30 a.m. - 10:30 a.m. - The Habitat Protection Committee will hear a report of the Southeast Aquatic Resources Partnership (SARP) Meeting and a report of the Texas Habitat Protection AP Meeting. The Committee will receive presentations of Shell Oil Liquified Natural Gas (LNG) Proposals and Gulf Foundation CRP Habitat Grants. Then the Committee will receive an update on the Gulf of Mexico Summit.

10:30 a.m. - 11:30 a.m. - The Shrimp Management Committee will meet to review the Texas Closure.

1 p.m. - 5:30 p.m. - The Reef Fish Management Committee will hear an update on the second red snapper referendum. The Committee will hear a status report on the Grouper Allocation Amendment. Then, the Committee will discuss possible mechanisms to trigger vertical line fishing at the end of the grouper season.

Tuesday, January 10, 2006

8:30 a.m. - 12 noon - The joint Reef Fish/Shrimp Management Committees will review a scoping document for a joint Reef Fish 27/Shrimp 14 Amendment to consider changes to regulations for the directed red snapper fishery targeted at reducing shrimp trawl by-catch; by-catch in the directed red snapper fishery; and effort limitation alternatives for the shrimp fishery. The Committee will also review another scoping document for a joint Reef Fish 28/Shrimp 15 Amendment to consider at such issues as gear and depth restrictions for the red snapper fishery; further reducing bycatch in the red snapper and shrimp fisheries; effort reduction in the shrimp fishery; as well as other management alternatives. The Committees will hear the Shrimp Advisory Panel's (AP) comments on these two documents.

1:30 p.m. - 3 p.m. - The Budget/Personnel Committee will meet to review Family Medical Leave Act (FMLA) revisions to the Statement of Organization Practices and Procedures (SOPPs) and make recommendations to Council. The Committee will also review the factors affecting the CY 2006 Budget.

3 p.m. - 5:30 p.m. - The Administrative Policy Committee will discuss the revisions made to the SOPPs regarding the Scientific and Statistical Committee (SSC) operations by the SSC Operations Task Force and make recommendations to Council. The Committee will hear a presentation by staff on video conferencing and discuss holding public comment sessions.

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) at least 5 working days prior to the meeting.

Dated: December 20, 2005.
Emily Menashes,
Acting Director, Office of Sustainable Fisheries, National Marine Fisheries Service.

[FR Doc. E5-7777 Filed 12-22-05; 8:45 am]

BILLING CODE 3510-22-S